DEPARTMENT OF THE INTERIOR

Fish and Wildlife Service

Receipt of Applications for Endangered Species Permits

AGENCY: Fish and Wildlife Service, Interior.

ACTION: Notice.

SUMMARY: The public is invited to comment on the following applications to conduct certain activities with endangered species. We provide this notice pursuant to section 10(c) of the Endangered Species Act of 1973, as amended (16 U.S.C. 1531 et seq.).

DATES: We must receive written data or comments on these applications at the address given below, by January 9, 2006.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist).

FOR FURTHER INFORMATION CONTACT: Victoria Davis, telephone 404/679-4176; facsimile 404/679-7081.

SUPPLEMENTARY INFORMATION: The public is invited to comment on the following applications for permits to conduct certain activities with endangered and threatened species. If you wish to comment, you may submit comments by any one of the following methods. You may mail comments to the Services Regional Office (see ADDRESSES section) or via electronic mail (e-mail) to “victoria_davis@fws.gov.” Please submit electronic comments as an ASCII file avoiding the use of special characters and any form of encryption. Please also include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Chris Andrew Fleming, Franklin, Tennessee, TE111326-0.

The applicant requests authorization to take (capture, identify, relocate, release) the Nashville crayfish (Orconectes shoupi). Take would occur while conducting presence/absence surveys, sweeps, and temporary relocations of individuals during construction activities located adjacent to suitable habitat. The proposed activities would occur in the Mill Creek Watershed, Davidson and Williamson Counties, Tennessee.

Applicant: Register-Nelson, Inc., Bobby D. Register, McDonough, Georgia, TE114088-0.

The applicant requests authorization to take (capture and release) the blue shiner (Cyprinella caerulea), amber darter (Percina antesella), Cherokee darter (Etheostoma scotti), Etowah darter (Etheostoma etowahae), goldline darter (Percina aurolineata), snail darter (Percina tanasi), and Conasauga logperch (Percina jenkinsi) while conducting presence/absence surveys. The proposed activities would occur in Georgia.

Applicant: U.S. Army Corps of Engineers, Memphis District, David L. Reece, Memphis, Tennessee, TE114190-0.

The applicant requests authorization to take (collect, temporarily hold, translocate, release) oyster mussels (Epioblasma capsaeformis) while conducting restoration activities. The proposed activities would occur from the Tennessee section of the Clinch River upstream into the Virginia section of the river.

Applicant: University of Central Florida, Department of Biology, 4000 Central Florida Boulevard, Orlando, Florida, TE105642-0.

The applicant requests authorization to take (collect non-viable eggs of) red-cockaded woodpeckers (Picoides borealis) while studying developmental analysis to determine fertility, while conducting genetic studies, and while conducting other applicable studies. The proposed activities would occur throughout the species( southern range.

Applicant: University of Central Florida, Department of Biology, Orlando, Florida, TE105642-0.

The applicant requests authorization to take (capture, identify, release) southeastern beach mice (Peromyscus polionotus niverventris) and Anastasia Island beach mice (Peromyscus polionotus phasma) while conducting presence/absence studies. The proposed activities would occur in Volusia, Brevard, Saint Lucie, Indian River, Marten, Palm Beach, and Broward Counties, Florida.

Applicant: John Malcolm Pierson, Pierson Environmental Consultation, 204 Stetson Lane, Alabaster, Alabama, TE114677-0.

The applicant requests authorization to take (capture, identify, photograph, collect tissue samples, salvage dead specimen, release) the following species: slender campeloma (Campeloma decampi), cylindrical lioplax (Lioplax cyclostomaformis), Tulotoma snail (Tulotoma magnifica), Anthony's riversnail (Athearnia anthonyi), Lacy Elimia (snail) (Elimia crenatella), painted rocksnail (Leptoxis taeniata), plicate rocksnail (Leptoxis plicata), round rocksnail (Leptoxis ampla), Tumbling Creek cavesnail (Antrobia culveri), flat pebblesnail (Lepyrium showalteri), royal marstonia (snail) (Pyrgulopsis ogmorhaphe), armored snail (Pyrgulopsis (=Marstonia) pachyta), painted snake coiled forest snail (Anguispira picta), noonday snail (Mesodon clarki nantahala), Magazine mountain shagreen (Mesodon magazinensis), Stock Island tree snail (Orthalicus reses), Cumberland elktoe (Alasmidonta atropurpurea), Appalachian elktoe (Alasmidonta raveneliana), fat three-ridge (mussel) (Amblema neislerii), Ouachita rock pocketbook (Arkansia wheeleri), birdwing pearlymussel (Conradilla caelata), fanshell (Cyprogenia stegaria), dromedary pearlymussel (Dromus dromas), shiny pigtoe (Fusconaia cor), finerayed pigtoe (Fusconaia cuneolus), Chipola slabshell (Elliptio chipolaensis), purple bankclimber (mussel) (Elliptoideus sloatianus), Cumberlandian combshell (Epioblasma brevidens), oyster mussel (Epioblasma capsaeformis), Yellow blossom (pearlymussel) (Epioblasma florentina florentina), Curtis pearlymussel (Epioblasma florentina curtisii), tan riffleshell (Epioblasma florentina walkeri), upland combshell (Epioblasma metastriata), Catspaw (=purple cat=s paw pearlymussel) (Epioblasma obliquata obliquata), southern acornshell (Epioblasma othcaloogensis), southern combshell (Epioblasma (=Dysnomia) penita), green blossom (pearlymussel) (Epioblasma torulosa gubernaculum), Tuberoled blossom (pearlymussel) (Epioblasma torulosa torulosa), turgid blossom (pearlymussel) (Epioblasma turgidula), cracking pearlymussel (Hemistena lata), pink mucket (pearlymussel) (Lampsilis abrupta), fine-lined pocketbook (Lampsilis altilis), Higgins eye (Lampsilis higginsii), orange-nacre mucket (Lampsilis perovalis), Arkansas fatmucket (Lampsilis powelli), speckled pocketbook (Lampsilis streckeri), shinyrayed pocketbook (Lampsilis subangulata), Alabama lampmussel (Lampsilis virescens), Carolina heelsplitter (Lasmigona decorata), scaleshell mussel (Leptodea leptodon), Alabama moccasinshell (Medionidus acutissimus), Coosa moccasinshell (Medionidus parvulus), Gulf moccasinshell (Medionidus penicillatus), Ochlockonee moccasinshell (Medionidus simpsonianus), ring pink (mussel) (Obovaria retusa), little-wing pearlymussel (Pegias fabula), white wartyback (pearlymussel) (Plethobasus cicatricosus), orangefoot pimpleback (pearlymussel) (Plethobasus cooperianus), clubshell (Pleurobema clava), black clubshell (Pleurobema curtum), southern clubshell (Pleurobema decisum), dark pigtoe (Pleurobema furvum), southern pigtoe (Pleurobema georgianum), Cumberland pigtoe (Pleurobema gibberum), flat pigtoe (Pleurobema marshalli), ovate clubshell (Pleurobema perovatum), rough pigtoe (Pleurobema plenum), oval pigtoe (Pleurobema pyriforme), heavy pigtoe (Pleurobema taitianum), fat pocketbook (Potamilus capax), Alabama (=inflated) heelspitter (Potamilus inflatus), triangular kidneyshell (Ptychobranchus greenii), rough rabbitsfoot (Quadrula cylindrical strigillata), winged mapleleaf (mussel) (Quadrula fragosa), Cumberland monkeyface (pearlymussel) (Quadrula intermedia), Appalachian monkeyface (pearlymussel) (Quadrula sparsa), stirrupshell (Quadrula stapes), pale lilliput (pearlymussel) (Toxolasma cylindrellus), purple bean (Villosa perpurpurea), Cumberland bean (pearlymussel) (Villosa trabalis), gulf sturgeon (Acipenser oxyrinchus desotoi), Alabama sturgeon (Scaphirhynchus suttkusi), blue shiner (Cyprinella caerulea), spotfin chub (Cyprinella (=Hybopsis monacha)), palezone shiner (Notropis albizonatus), Cahaba shiner (Notropis cahabae), slackwater darter (Etheostoma boschungi), vermilion darter (Etheostoma chermocki), watercress darter (Etheostoma nuchale), boulder darter (Etheostoma wapiti), goldline darter (Percina aurolineata), snail darter (Percina tanasi), flattened musk turtle (Sternotherus depressus), and gopher tortoise (Gopherus polyphemus). Take would occur while conducting presence/absence surveys. The proposed activities would occur in Alabama, Tennessee, Georgia, Florida, and Mississippi.

Dated: November 15, 2005.
Noreen E. Walsh,
Acting Regional Director.

[FR Doc. E5-7041 Filed 12-7-05; 8:45 am]

BILLING CODE 4310-55-P